DEPARTMENT OF LABOR

Employment and Training Administration

Workforce Investment Act; Native American Employment and Training Funding Awards

AGENCY: Employment and Training Administration, U.S Department of Labor.

ACTION: Notice.

SUMMARY: This notice announces funding amounts awarded to Indian tribes, tribal organizations, Alaska Native entities, Indian-controlled organizations serving Indians, and Native Hawaiian organizations for the purpose of providing employment and training services to Indian, Alaska Native and Native Hawaiian individuals. Funding awards are based on formulas defined in the implementing regulations of the Workforce Investment Act (WIA) at 20 CFR 668.296(b) for the Comprehensive Services program and 20 CFR 668.440(a) for the Supplemental Youth Services program.

ADDRESSES: Comments and questions regarding these funding awards may be submitted to the Employment and Training Administration (ETA), Office of National Programs, Division of Indian and Native American Programs, Room C-4311, 200 Constitution Avenue, NW., Washington, DC 20210, Attention: Ms. Athena Brown, 202-693-3737 (voice), 202-693-3818 (fax), e-mail: brown.athena@dol.gov.

FOR FURTHER INFORMATION CONTACT: Mr. Duane Hall, Division of Indian and Native American Programs, (214) 767-2154 or toll free at 1-800-877-8339 (TTY); speech-to-speech at 1-800-877-8339; or by fax; 202-693-3818 or e-mail at: hall.duane@dol.gov.

SUPPLEMENTARY INFORMATION: The Department of Labor is announcing final WIA section 166 formula funds for Program Year (PY) 2005 (July 1, 2005-June 30, 2006) for the Supplemental Youth Services and Comprehensive Services programs. This document provides information on the amount of funds awarded to designated grantees under WIA section 166.

Comprehensive Services Allotments. $54,237,600 has been appropriated for the PY 2005 Comprehensive Services program. Of this amount, $540,000 has been reserved for technical assistance and training purposes pursuant to the regulations at 20 CFR 668.296(e). The remaining $53,697,600 will be awarded to 184 grantees indicated in the table below. Of this amount, $7,752,571 will be transferred to the Department of the Interior, Office of Self-Governance and Self-Determination, for grantees participating in the demonstration under Pub. L. 102-477, the Indian Employment, Training, and Related Services Demonstration Act of 1992, as amended. The tribes participating in the “477 program” are identified with an asterisk (*) in the following funding table.

Supplemental Youth Services Allotments. The ETA will also award an additional $14,794,321 to 97 of the 184 grantees indicated above for supplemental youth services (see table attached). SYS funds are only available to section 166 grantees serving reservation areas on which Native American youth reside. This includes Native areas in Alaska, tribal jurisdictional areas in Oklahoma, and Native Hawaiian youth in Hawaii.

Signed in Washington, DC, this 31st day of May, 2005.
Emily Stover DeRocco,
Assistant Secretary, Employment and Training Administration.

BILLING CODE 4510-30-P

[FR Doc. 05-11378 Filed 6-7-05; 8:45 am]

BILLING CODE 4510-30-C